DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. These applications have been separated from the new application for special permits to facilitate processing.

DATES: Comments must be received on or before July 5, 2007.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permit is published in accordance with part 107 of the Federal hazardous materials transportation law (49 U.S.C. 5117(b); 49 CFR 1.53(b)).

Issued in Washington, DC, on June 13, 2007.
Delmer Billings,
Director, Special Permits & Approvals Programs, Office of Hazardous Materials, Special Permits & Approvals.

Application No. | Docket No. | Applicant | Regulation(s) affected | Nature of special permit thereof
MODIFICATION SPECIAL PERMITS
8554-M |  | Austin Powder Company, Cleveland, OH | 49 CFR 173.62; 173.240; 173.242; 173.93; 173.114a; 173.154; 176.83; 176.415; 177.848(d) | To modify the special permit to authorize the transportation in commerce of certain 1.5D explosives in the same vehicle with 5.1 oxidizers.
11579-M |  | Dyno Nobel, Inc., Salt Lake City, UT | 49 CFR 177.848(e)(2); 177.848(g)(3) | To modify the special permit to authorize an additional packaging configuration for the transportation of Division 1.4, 1.5, & Combustible materials in DOT Specification and non-DOT specification bulk packagings.
11947-M |  | Patts Fabrication, Inc., Midland, TX | 49 CFR 173.202; 173.203; 173.241; 173.242 | To modify the special permit to authorize the transportation of additional Class 3 and 8 material in non-DOT specification containers.
14282-M |  | Dyno Nobel, Inc., Salt Lake City, UT | 49 CFR 173.835(g); 177.835(g)(3)(ii) | To modify the special permit to authorize the transportation in commerce of additional Division 3 and 5.1 materials.
14399-M |  | Gas Cylinder Technologies Inc., Tecumseh, Ontario | 49 CFR 173.301(a)(1); 173.301(a)(2); 173.301(f)(1); 173.302a; 173.302a(a)(1); 173.302a(f)(1); 178.65(g) | To modify the special permit to specifically authorize the transportation in commerce of oxygen compressed by air.
14466-M |  | Alaska Pacific Powder Company, Anchorage, AK | 49 CFR 172.101 Column (9B) | To reissue the special permit originally issued on an emergency basis for the transportation in commerce of certain Class 1 explosive materials which are forbidden for transportation by air, to be transported by cargo aircraft within the State of Alaska when other means of transportation are impracticable or not available.

[FR Doc. 07-3020 Filed 6-19-07; 8:45 am]

BILLING CODE 4909-60-M